DEPARTMENT OF THE INTERIOR

Bureau of Land Management

[BLM_OR_FRN_MO4500170655]

Notice of Intent To Prepare a Resource Management Plan for the Cascade-Siskiyou National Monument in Oregon/Washington and California and an Associated Environmental Impact Statement

AGENCY: Bureau of Land Management, Interior.

ACTION: Notice of intent.

SUMMARY: In compliance with the National Environmental Policy Act of 1969, as amended (NEPA), the Federal Land Policy and Management Act of 1976, as amended (FLPMA), Presidential Proclamations entitled “Establishment of the Cascade-Siskiyou National Monument” (June 9, 2000) and “Boundary Enlargement of the Cascade-Siskiyou National Monument” (January 12, 2017), the Bureau of Land Management (BLM) Oregon/Washington (OR/WA) and California (CA) State Offices intend to revise a resource management plan (RMP) with an associated environmental impact statement (EIS) for the Cascade-Siskiyou National Monument (Monument). With this notice, the BLM announces the beginning of a 60-day public scoping period to solicit public comments and identify issues, provide the planning criteria for public review, and issue a call for nominations for areas of critical environmental concern (ACECs). This RMP revision would replace the existing 2008 Monument RMP.

DATES: The BLM requests the public submit comments concerning the scope of the analysis, potential alternatives, and identification of relevant information, studies, and ACEC nominations by August 8, 2023. The BLM also requests the public submit comments on the planning criteria by the same date identified earlier. The planning criteria will be made available to the public within the first 30 days of the 60-day comment period to ensure the public has at least 30 days to comment on the planning criteria as required by the planning regulations at 43 CFR 1610.2(e).

ADDRESSES: You may submit comments on issues and planning criteria related to the Monument RMP and nominations of new ACECs by any of the following methods:

• Website: https://eplanning.blm.gov/eplanning-ui/project/2023675/510.

• Mail: ATTN: CSNM RMP Project Manager, BLM Medford District, 3040 Biddle Rd., Medford, OR 97504.

Documents pertinent to this proposal may be examined online at https://eplanning.blm.gov/eplanning-ui/project/2023675/510 and at the BLM Medford District Office, 3040 Biddle Rd., Medford, OR 97504.

FOR FURTHER INFORMATION CONTACT: Nikki Haskett, Cascade-Siskiyou National Monument RMP Project Manager; (458) 246-8861, address 3040 Biddle Rd., Medford, OR 97504; email blm_csnm_rmp@blm.gov. Contact Ms. Haskett to have your name added to our mailing list. Individuals in the United States who are deaf, deafblind, hard of hearing, or have a speech disability may dial 711 (TTY, TDD, or TeleBraille) to access telecommunications relay services for contacting Ms. Haskett. Individuals outside the United States should use the relay services offered within their country to make international calls to the point-of-contact in the United States.

SUPPLEMENTARY INFORMATION: This document provides notice that the BLM OR/WA and CA State Directors intend to prepare an RMP with an associated EIS for the Monument, announces the beginning of the scoping process, seeks public input on issues and relevant planning criteria, and invites the public to nominate ACECs. The planning area is in Jackson and Klamath Counties in Oregon and Siskiyou County in California and encompasses approximately 113,500 acres of BLM-administered lands. While most of the BLM-administered lands are within the BLM Ashland and Klamath Falls Field Offices in Oregon, approximately 5,000 acres are located within the BLM Redding Field Office in California.

In response to Presidential Proclamation No. 9564 (Boundary Enlargement of the Cascade-Siskiyou National Monument January 12, 2017), multiple plaintiffs sued the President and the BLM, claiming that the monument expansion violated the Oregon and California Revested Lands Sustained Yield Management Act of 1937 (the O&C Act). In 2017, two plaintiffs filed separate suits in the U.S. District Court for the District of Columbia. A third plaintiff filed suit in the District of Oregon. In September 2019, the District of Oregon upheld the monument expansion, and the U.S. Court of Appeals for the Ninth Circuit affirmed the District Court's judgment in April 2023. In November 2019, the District Court for the District of Columbia held that the monument expansion violated the O&C Act by “reserving land governed by the O&C Act from sustained yield timber production” and held Presidential Proclamation No. 9564 “invalid and unenforceable as applied to land subject to the O&C Act.” The United States has appealed this decision to the U.S. Court of Appeals for the District of Columbia Circuit. Although the outcome of this appeal is uncertain, the BLM is exercising its discretion to initiate preliminary planning steps with the understanding that the BLM retains the ability to modify or terminate any planning effort in response to the outcome of the litigation.

Purpose and Need for the RMP

This RMP will provide a management framework, including goals, objectives, and management direction, to guide management of the Monument. The RMP purposes and needs will frame issue identification, alternatives development, and effects analyses. The following purposes are explicitly provided in Presidential Proclamations No. 7318 (Establishment of the Cascade-Siskiyou National Monument) and No. 9564, other designating legislation, and/or have been identified based on key present and historical Monument management challenges. Planning for these purposes will be crucial for development of an RMP that provides direction for addressing critical management challenges. Associated problems and opportunities that the RMP will address are also summarized.

1. Protect and/or restore the unique and varied natural and scientific resources in the Monument. This includes Monument objects identified in the proclamations, including:

a. A landscape of ecological wonder with unmatched biological diversity that provides habitat connectivity, watershed protection, and landscape-scale resilience for the area's critically important natural resources.

b. The varied and diverse plant communities that support the diverse, rare, and endemic wildlife and plant species that populate them.

c. The intact habitats and undisturbed corridors that allow for animal migration and movement.

d. The unique and varied geological features and landscapes that exist.

e. A landscape that provides opportunities for scientific and historic studies and an invaluable resource to scientists and conservationists wishing to research and sustain the functioning of the landscape's ecosystems into the future.

Challenges and Opportunities: The Monument is home to a spectacular variety of rare species of plants and animals, whose survival depends upon its continued ecological integrity. Ecological integrity refers to the degree to which an area's natural ecosystem processes have either remained intact or been interrupted through human intervention. The checkerboard pattern of ownership within the monument, the lack of fire due to fire exclusion, and activities such as timber harvest, livestock grazing, and road building have changed natural processes across the monument landscape. These current and past activities continue to present management challenges. Additionally, recreation and visitor use in the monument continues to increase.

The Monument's biodiversity is internationally recognized and provides an invaluable resource to scientists. Evolutionary biologists have identified this area as a center of endemism and diversity for springsnails, and researchers have discovered four new species of mygalomorph spiders in the Monument. Scientific research and monitoring activities play a crucial role in supporting an adaptive management approach in the land use planning process. They contribute to effective and science-based management decisions and help us understand the intricate web of actions and reactions in an ecosystem as changes are introduced or disturbances occur.

The BLM will explore various ways of protecting and restoring the Monument's natural and scientific resources, including the Monument objects, by identifying acceptable existing conditions, educating visitors, setting research priorities, and providing for public access and enjoyment where access does not conflict with the protection of Monument objects.

2. Protect and or restore the historical and cultural understanding and appreciation related to the Monument, including Monument objects. These objects include historic and prehistoric features on the landscape that provide traces of the presence of human use in the Monument, both by Native American and Euro-American settlers.

Challenges and Opportunities: Public visitation, permitted activities, and climate change have the potential to impact cultural resources, including the Monument's historic and prehistoric features. Management decisions are needed to clarify how to select and prioritize protection and restoration of these features and our understanding of and appreciation for them.

3. Reduce fire risk to important fire-susceptible Monument objects, and adjacent wildland urban interface lands.

Challenges and Opportunities: The lack of fire due to fire exclusion and the checkerboard pattern of ownership within the Monument continue to present management challenges. Much of the planning area has a checkerboard pattern of ownership of intermixed private, state, Bureau of Reclamation, and BLM-administered lands. The private lands are comprised of rural residential areas, the small communities of Greensprings, Lincoln, and Pinehurst, and private and industrial forests. This is an area commonly referred to as the wildland urban interface.

4. Protect a range of habitats that can be resistant and resilient to large-scale disturbance such as fire, insects and disease, invasive species, drought, or floods, events likely to be exacerbated by climate change.

Challenges and Opportunities: Climate change is leading to changes in disturbance regimes and severities (e.g., drought, fire, insects, and disease). For example, long-term drought has led to declining stream flows and historically low reservoir levels, which impacts aquatic habitats and species that depend on them. Drought and subsequent insect damage have caused substantial mortality in forest stands, increasing fuel loading, and reducing resilience to fire.

5. Manage discretionary uses in the Monument in the context of protecting Monument objects and values.

Challenges and Opportunities: Public land uses in the Monument, such as recreation and livestock grazing, are important to the economic opportunities and quality of life of the local communities surrounding the Monument. These uses, and others, can present management challenges for the BLM. Since designation in 2000, controversy and disputes have existed among interested parties regarding BLM's discretionary uses, particularly because designation as a national monument requires the BLM to protect the objects and values within its boundary. External interests span the spectrum from supporting a wide variety of uses and activities to promoting strong preservation interests. Establishing management that best protects the Monument's objects and values while considering other compatible uses is vital in this planning effort.

Preliminary Alternatives

The BLM will analyze a range of alternatives that explore and evaluate different ways of achieving its purposes and needs. The alternatives will explore different outcomes to be addressed through this planning effort to better understand the trade-offs of different land management approaches. The BLM welcomes comments on all preliminary alternatives, as well as suggestions for additional alternatives.

Preliminary Planning Criteria

The planning criteria guide the planning effort and lay the groundwork for effects analysis by identifying the preliminary issues and their analytical frameworks. The BLM has identified preliminary issues for the planning area from early engagement conducted for this planning effort with Federal, State, and local agencies, Tribal Nations, and interested participants. The BLM will provide the planning criteria within the timeframe identified in DATES earlier. The planning criteria will be available for public review and comment at the ePlanning website (see ADDRESSES).

Summary of Expected Impacts

Consistent with protection of the Monument's objects of scientific and historic interest identified in Presidential Proclamations No. 7318 and No. 9564, implementation of a new RMP may impact—either beneficially or adversely—resources, resource uses, and special designations within the Monument, including soils, water, vegetation, cultural and historic resources, paleontological resources, visual resources, recreation, livestock grazing, social and economic values, and other human and environmental resources.

Schedule for the Decision-Making Process

The BLM will provide additional opportunities for public participation consistent with NEPA and BLM land use planning processes, including a 90-day comment period on the Draft RMP/EIS, then a 30-day public protest period, as well as a concurrent 60-day Governor's consistency review, on the Proposed RMP. The Draft RMP/EIS is anticipated to be ready for public review in early 2024, and the Proposed RMP/Final EIS is anticipated to be available for public protest in fall 2024, with an approved RMP and Record of Decision completed in late 2024.

Public Scoping Process

This Notice of Intent initiates the scoping period and public review of the planning criteria, which guide the development and analysis of the Draft RMP/EIS. The BLM will hold a total of four scoping meetings. One scoping meeting will be held virtually. Three scoping meetings will be conducted in-person: one in Ashland, Oregon, one in Greensprings, Oregon, and one in Klamath Falls, Oregon. Details of all meetings will be announced once known. In compliance with Department of the Interior public health guidelines, the BLM may need to hold public meetings in a virtual format if county-level transmission of COVID-19 is “high” at the time of the public meetings. In that case, the BLM will hold four virtual public meetings. The specific dates and locations of these scoping meetings will be announced at least 15 days in advance through local media, social media, newspapers, and the ePlanning website (see ADDRESSES).

The ePlanning website (see ADDRESSES) also includes, or will include, background information on the Monument, an overview of the planning process, preliminary planning criteria, and interim management guidance. You may submit comments on issues, potential alternatives, relevant information and analyses, and the preliminary planning criteria in writing to the BLM at any public scoping meeting, or to the BLM using one of the methods listed in the ADDRESSES section.

Areas of Critical Environmental Concern (ACECs)

There are five ACECs within the Monument: Jenny Creek, Tunnel Creek, Moon Prairie, Lost Lake, and Old Baldy. This notice invites the public to comment on whether to retain the existing ACECs and whether to nominate areas on BLM-administered lands for ACEC consideration. To assist the BLM in evaluating nominations for consideration in the Draft RMP/EIS, please provide supporting descriptive materials, maps, and evidence of the relevance and importance of resources or hazards by the close of the public scoping period to facilitate timely evaluation (see DATES and ADDRESSES). The BLM has identified the anticipated issues related to the consideration of ACECs in the planning criteria.

Tribal Coordination

The Monument planning process will provide Tribal Nations multiple ways to engage, including, but not limited to, through government-to-government coordination and consultation, consultation under Section 106 of the National Historic Preservation Act (NHPA) (54 U.S.C. 306108), and participation as cooperating agencies.

Cooperating Agencies

Federal, State, and local agencies, along with Tribal Nations, may request or be asked by the BLM to participate as cooperating agencies. At this time, the BLM has identified the following potential cooperating agencies:

• National Park Service,

• U.S. Fish and Wildlife Service,

• NOAA, Fisheries,

• U.S. Geological Survey,

• U.S. Bureau of Indian Affairs,

• Oregon Department of Environmental Quality,

• Oregon Department of Fish and Wildlife,

• California Department of Fish and Wildlife,

• Oregon Department of Transportation,

• California Department of Transportation,

• Oregon State Parks and Recreation Department,

• California Department of Forestry and Fire Protection,

• Klamath County Commissioners,

• Jackson County Commissioners,

• Siskiyou County Board of Supervisors,

• City of Ashland,

• City of Klamath Falls, and

• All nine affiliated Tribal Nations that wish to participate.

Responsible Official

The OR/WA and the CA State Directors are the deciding officials for this planning effort.

Nature of Decision To Be Made

The nature of the decision to be made will be the State Directors selection of land use planning decisions for managing BLM-administered lands within the Monument that protect the objects and values identified in Proclamation 7318 and Proclamation 9564. Uses on the Monument may be allowed to the extent they are consistent with Proclamation 7318 and Proclamation 9564 and the protection of the objects and values within the Monument.

Interdisciplinary Team

The BLM will use an interdisciplinary approach in developing the RMP/EIS to consider the variety of resource issues and concerns identified. Specialists with expertise in various disciplines, such as cultural resources, Native American concerns, paleontology, minerals, lands/access, recreation, special designations, wildlife, livestock grazing, soils, water resources, vegetation, rangeland management, fisheries, fire management, woodlands/forestry, socioeconomics, environmental justice, visual resources, air quality, and climate change will be involved in the planning process.

Additional Information

The BLM will identify, analyze, and consider mitigation to address the reasonably foreseeable impacts to resources from the proposed RMP and all analyzed alternatives and, in accordance with 40 CFR 1502.14(e), include appropriate mitigation measures not already included in the proposed plan or alternatives. Mitigation may include avoidance, minimization, rectification, reduction or elimination over time, and compensation, and may be considered at multiple scales, including the landscape scale.

The BLM will coordinate its NEPA and land use planning processes with its efforts to ensure compliance with section 7 of the Endangered Species Act (16 U.S.C. 1536) and Section 106 of the NHPA, as provided in 36 CFR 800.2(d)(3), including the public involvement requirements of section 106. Information about historic and cultural resources and threatened and endangered species within the area potentially affected by the proposed plan will assist the BLM in identifying and evaluating impacts to such resources.

The BLM will consult with Tribal Nations on a government-to-government basis in accordance with Executive Order 13175 and applicable Departmental policies. Tribal concerns, including impacts on American Indian trust assets and potential impacts on cultural resources, will be given due consideration. The BLM intend to hold a series of government-to-government consultation meetings beginning during the public scoping period. The BLM will send invitations to interested Tribal Nations at least 30-days prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2.)

Barry Bushue,
BLM Oregon/Washington State Director.
Karen Mouritsen,
BLM California State Director.

[FR Doc. 2023-12311 Filed 6-8-23; 8:45 am]

BILLING CODE 4331-24-P